DEPARTMENT OF HEALTH AND HUMAN SERVICES

Administration for Children and Families

Extension of a Currently Approved Information Collection; Comment Request Proposed Projects

Title: Cross-Site Evaluation of Children's Bureau's Child Welfare Technical Assistance Implementation Centers and National Child Welfare Resource Centers.

OMB No.: 0970-0377.

Background and Brief Description: The Cross-Site Evaluation of the Child Welfare Implementation Centers (ICs) and National Resource Centers (NRCs) is sponsored by the Children's Bureau, Administration for Children and Families, of the U.S. Department of Health and Human Services and involves the conduct of a multi-year cross-site evaluation that examines the service provision of the ICs' and NRCs' and the relation of their training and technical assistance activities to organizational and systems change in State and Tribal child welfare systems. Additionally, the evaluation examines the degree to which networking, collaboration, information sharing, adherence to common principles, and common messaging occurs across members of the Children's Bureau Training and Technical Assistance (T/TA) Network, which is designed to improve child welfare systems and to support States and Tribes in achieving sustainable, systemic change that results in greater safety, permanency, and well-being for children, youth, and families. The Children's Bureau desires to assess the quality and effectiveness of the technical assistance it supports, and several of these programs and projects are required to be evaluated, including those funded under Section 105 of The Child Abuse Prevention and Treatment Act, as amended [42 U.S.C. 5106]. The Children's Bureau T/TA Network is currently comprised of providers funded entirely or partially by the Children's Bureau through grants, contracts, and interagency agreements.

The cross-site evaluation uses a mixed-method, longitudinal approach to examine the ICs (funded in FY 2009) and the NRCs (funded in FY 2010). Data collection methods that already have been employed are a longitudinal telephone survey of State and Tribal child welfare directors (or their designees), a web-based survey of State and Tribal T/TA recipients, and aggregation of outputs from a web-based technical assistance tracking system (OneNet) that will continue to be used by the ICs and NRCs. A web-based survey also has been administered to members of the T/TA Network to assess their communication, coordination, and how they function as part of the Network. Data collected through these instruments are being used by the Children's Bureau to evaluate the technical assistance delivered to State, local, Tribal, and other publicly administered or publicly supported child welfare agencies and family and juvenile courts. Extension of the follow-up data collection instruments beyond the June 30, 2013 expiration date is necessary so that the Children's Bureau can assess the extent to which the ICs and NRCs fulfill their key objectives and determine the outcomes of the T/TA provided by the ICs and NRCs from the perspective of States and Tribes, incorporating service utilization data from OneNet into these analyses.

Respondents: Respondents to two of the survey instruments will be State and Tribal governments. Respondents to the third survey will be private institutions, including universities, not-for-profit organizations, and private companies. Private institutions, including universities and not-for-profit organizations will be respondents to the forms in the OneNet tracking system.

Annual Burden Estimates
Instrument | Number of respondents | Number of responses per respondent | Average burden hours per response | Total annual burden hours
Agency Results Survey | 74 | 1 | 1.0 | 74.00
T/TA Activity Survey | 160 | 3 | 0.25 | 120.00
Web-Based Network Survey | 15 | 1 | 0.25 | 3.75
OneNet Form: General T/TA Event | 17 | 11.8 | 0.25 | 50.00
OneNet Form: T/TA Request | 13 | 12.31 | 0.40 | 64.00
OneNet Form: T/TA Assessment and Work Plan | 13 | 6.2 | 0.28 | 22.568
OneNet Form: T/TA Activity | 12 | 160 | 0.30 | 576.00
OneNet Form: Implementation Project Application | 5 | 1.7 | 0.40 | 3.4
OneNet Form: Implementation Project Assessment and Work Plan | 5 | 4.6 | 0.28 | 6.44
OneNet Form: Implementation Project T/TA Activity | 5 | 600 | 0.30 | 900
OneNet Form: Implementation Project Monthly Report | 5 | 36 | 0.17 | 30.60
Estimated Total Annual Burden Hours: |  |  |  | 1850.76

Overall, the estimated burden hours have decreased by 284 hours from the original submission (the estimated total annual burden hours were 2135.12). This difference is explained in part due to plans for fewer Network member organizations to complete subsequent surveys. Additional data fields have been added to four of the OneNet forms at the request of respondents, and a few questions on survey instruments have been removed or revised. These minor changes did not increase the total annual burden hours.

In compliance with the requirements of Section 3506(c) (2) (A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2012-25359 Filed 10-15-12; 8:45 am]

BILLING CODE P